ENVIRONMENTAL PROTECTION AGENCY

40 CFR Parts 60, 1039, 1042, 1065, and 1068

[EPA-HQ-OAR-2010-0295, FRL-9185-7]

RIN 2060-AP67

Standards of Performance for Stationary Compression Ignition and Spark Ignition Internal Combustion Engines

AGENCY: Environmental Protection Agency (EPA).

ACTION: Extension of public comment period.

SUMMARY: On June 8, 2010, EPA proposed amendments to the standards of performance for stationary compression ignition and spark ignition internal combustion engines. In this notice, we are announcing a 30-day extension of the public comment period for the proposal.

DATES: Comments must be received on or before September 8, 2010.

ADDRESSES: Submit your comments, identified by Docket ID No. EPA-HQ-OAR-2010-0295, by one of the following methods:

• http://www.regulations.gov: Follow the on-line instructions for submitting comments.

• E-mail: a-and-r-docket@epa.gov.

• Fax: (202) 566-9744.

• Mail: U.S. Postal Service, send to: EPA Docket Center (6102T), 1200 Pennsylvania Ave., NW., Washington, DC 20460. Please include a total of two copies.

• Hand Delivery: In person or by courier, deliver comments to: EPA Docket Center (6102T), EPA West, Room 3334, 1301 Constitution Avenue, NW., Washington, DC 20004. Such deliveries are only accepted during the Docket's normal hours of operation, and special arrangements should be made for deliveries of boxed information. Please include a total of two copies.

Instructions: Direct your comments to Docket ID No. EPA-HQ-OAR-2010-0295. We also rely on documents in Docket ID Nos. EPA-HQ-OAR-2005-0029 and EPA-HQ-OAR-2003-0190 and incorporate those dockets into the record for this proposed rule. EPA's policy is that all comments received will be included in the public docket without change and may be made available on-line at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: EPA has established a docket for this action under Docket ID No. EPA-HQ-OAR-2010-0295. All documents in the docket are listed in the http://www.regulations.gov index. We also rely on documents in Docket ID Nos. EPA-HQ-OAR-2005-0029 and EPA-HQ-OAR-2003-0190 and incorporate those dockets into the record for this proposed rule. Although listed in the index, some information is not publicly available, e.g., CBI or other information whose disclosure is restricted by statute. Certain other material, such as copyrighted material, will be publicly available only in hard copy. Publicly available docket materials are available either electronically in http://www.regulations.gov or in hardcopy at the EPA DocketCenter, EPA West, Room 3444, 1301 Constitution Avenue, NW., Washington, DC. The Public Reading Room is open from 8:30 a.m. to 4:30 p.m., Monday through Friday, excluding legal holidays. The telephone number for the Public Reading Room is (202) 566-1744, and the telephone number for the Docket Center is (202) 566-1742.

FOR FURTHER INFORMATION CONTACT: Ms. Melanie King, Energy Strategies Group, Sector Policies and Programs Division (D243-01), Environmental Protection Agency, Research Triangle Park, North Carolina 27711; telephone number: (919) 541-2469; facsimile number: (919) 541-5450; e-mail address: “king.melanie@epa.gov.”

SUPPLEMENTARY INFORMATION: This document extends the public comment period established in the notice of proposed rulemaking published in the Federal Register on June 8, 2010 (75 FR 32612). That notice proposed revisions to the standards of performance for stationary compression ignition and spark ignition internal combustion engines.

After publication of the proposed rule, EPA received requests from the American Petroleum Institute and the Alaska Department of Environmental Conservation for a 30-day extension of the comment period for the proposed rule. The requestors indicated that an extended comment period was necessary to allow time for a more thorough evaluation of the proposal and development of a complete set of comments.

The letters requesting an extension to the comment period can be found in the docket. EPA is hereby extending the comment period, which was set to end on August 9, 2010, to September 8, 2010.

List of Subjects

40 CFR Part 60

Administrative practice and procedure, Air pollution control, Incorporation by reference, Intergovernmental relations, Particulate matter, Reporting and recordkeeping.

40 CFR Part 1039

Administrative practice and procedure, Air pollution control.

40 CFR Part 1042

Administrative practice and procedure, Air pollution control.

40 CFR Part 1065

Administrative practice and procedure, Air pollution control, Reporting and recordkeeping requirements, Research.

40 CFR Part 1068

Administrative practice and procedure, Air pollution control, Imports, Motor vehicle pollution, Penalties, Reporting and recordkeeping requirements, Warranties.

Dated: August 2, 2010.
Janet G. McCabe,
Acting Assistant Administrator, Office of Air and Radiation.

[FR Doc. 2010-19414 Filed 8-5-10; 8:45 am]

BILLING CODE 6560-50-P